DEPARTMENT OF LABOR

Employment and Training Administration

[TA-W-61,342]

Georgia-Pacific West, Inc. Consumer Products Division Including On-Site Leased Workers From Securitas, Bellingham, WA; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on January 7, 2008, applicable to workers of Georgia-Pacific West, Inc., Consumer Products Division, Bellingham, Washington. The notice was published in the Federal Register on January 25, 2008 (73 FR 4634).

At the request of the State agency, the Department reviewed the certification for workers of the subject firm. The workers are engaged in the production of tissue, toilet tissue.

New information shows that leased workers of Securitas were employed on-site at the Bellingham, Washington location of Georgia-Pacific West, Inc., Consumer Products Division. The Department has determined that these workers were sufficiently under the control of the subject firm to be considered leased workers.

Based on these findings, the Department is amending this certification to include leased workers of Securitas working on-site at the Bellingham, Washington location of the subject firm.

The intent of the Department's certification is to include all workers employed at Georgia-Pacific West, Inc., Consumer Products Division, Bellingham, Washington who were adversely-impacted by increased company imports.

The amended notice applicable to TA-W-62,342 is hereby issued as follows:

All workers of Georgia-Pacific West, Inc., Consumer Products Division, including on-site leased workers from Securitas, Bellingham, Washington, who became totally or partially separated from employment on or after October 19, 2006, through January 7, 2010, are eligible to apply for adjustment assistance under Section 223 of the Trade Act of 1974, and are also eligible to apply for alternative trade adjustment assistance under Section 246 of the Trade Act of 1974.

Signed at Washington, DC this 26th day of February 2008
Elliott S. Kushner,
Certifying Officer, Division of Trade Adjustment Assistance.

[FR Doc. E8-4439 Filed 3-6-08; 8:45 am]

BILLING CODE 4510-FN-P